FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[May 1, 2014 thru May 30, 2014]
05/01/2014
20140775 | G | The Walt Disney Corporation; Maker Studios, Inc. The Walt Disney Corporation.
20140823 | G | PS Fund 1, LLC; Allergan, Inc.; PS Fund 1, LLC.
05/02/2014
20140818 | G | Andreessen Horowitz Fund III, L.P.; Mr. Mark Zuckerberg; Andreessen Horowitz Fund III, L.P.
20140819 | G | AH Parallel Fund III, L.P.; Mr. Mark Zuckerberg; AH Parallel Fund III, L.P.
20140837 | G | Mr. Marc Lasry; Senator Herbert H. Kohl; Mr. Marc Lasry.
20140838 | G | Mr. Wesley Edens; Senator Herbert H. Kohl; Mr. Wesley Edens.
05/05/2014
20140793 | G | Bain Capital Fund XI, L.P.; Viewpoint, Inc.; Bain Capital Fund XI, L.P.
20140829 | Y | Koppers Holdings Inc.; OHI Parent, Inc.; Koppers Holdings Inc.
20140836 | G | Post Holdings, Inc.; MFI Holding Corporation; Post Holdings, Inc.
20140845 | G | Carlyle Europe Partners IV, L.P.; Schneider Electric S.A.; Carlyle Europe Partners IV, L.P.
05/06/2014
20140057 | G | Health Care Service Corporation; Welsh, Carson, Anderson & Stowe IX, L.P.; Health Care Service Corporation.
20140858 | G | Mustang Holdco 1 LLC; Electronic Funds Source LLC; Mustang Holdco 1 LLC.
05/07/2014
20140786 | G | STERIS Corporation; Farrell Eugene Robinson; STEAM Corporation.
20140807 | G | Berkshire Hathaway, Inc.; Graham Holdings Company; Berkshire Hathaway, Inc.
20140808 | G | Summit Partners Growth Equity Fund VIII-A, L.P.; ABILITY Network Holding Inc.; Summit Partners Growth Equity Fund VIII-A, L.P.
20140839 | G | The Goldman Sachs Group, Inc.; CVC European Equity Partners III L.P.; The Goldman Sachs Group, Inc.
20140840 | G | Olympus Growth Fund V. L.P.; Pregis Holding I Corporation; Olympus Growth Fund V, L.P.
20140853 | G | Brown & Brown, Inc.; Paul L. Barden; Brown & Brown, Inc.
20140866 | G | The Laclede Group, Inc.; Energen Corporation; The Laclede Group, Inc.
05/08/2014
20140802 | G | International Business Machines Corporation; Silverpop Systems, Incorporated; International Business Machines Corporation.
05/09/2014
20140657 | G | Rock-Tenn Company; Kamilche Company; Rock-Tenn Company.
20140815 | G | Mallinckrodt public limited company; Questcor Pharmaceuticals, Inc.; Mallinckrodt public limited company.
20140847 | G | Vista Equity Partners Fund V, L.P.; DealerSocket, Inc.; Vista Equity Partners Fund V, L.P.
20140856 | G | Saltchuk Resources, Inc.; AGL Resources Inc.; Saltchuk Resources, Inc.
20140859 | G | LS Power Equity Partners III, L.P.; Calpine Corporation; LS Power Equity Partners III, L.P.
05/12/2014
20140872 | G | AT&T Inc.; SoftBank Corporation AT&T Inc.
20140878 | G | Lincolnshire Equity Fund IV-A, L.P.; MUIR Institutional Partners III LP; Lincolnshire Equity Fund IV-A, L.P.
20140881 | G | Columbia Sportswear Company; Moore Global Investments, Ltd.; Columbia Sportswear Company.
20140882 | G | The Hillshire Brands Company; Catterton Partners VI, L.P.; The Hillshire Brands Company.
20140887 | G | Samsung SDI Co., Ltd.; Cheil Industries, Inc.; Samsung SDI Co., Ltd.
05/13/2014
20140846 | G | Blue Harbour Active Ownership Partners, L.P.; Chico's FAS, Inc.; Blue Harbour Active Ownership Partners, L.P.
20140877 | G | Gulf Pacific Power, LLC; OTPPB US Power, LLC; Gulf Pacific Power, LLC.
20140884 | G | Holcombe T. Green, Jr.; Cbeyond, Inc.; Holcombe T. Green, Jr.
20140885 | G | Endo International plc; Zogenix, Inc.; Endo International plc.
20140890 | G | Genpact Limited; Peter Griffin; Genpact Limited.
05/14/2014
20140869 | G | Celgene Corporation; Achille Gregory Severgnini; Celgene Corporation.
20140895 | G | Genstar Capital Partners VI, L.P.; Castle Harlan Partners V, L.P.; Genstar Capital Partners VI, L.P.
05/15/2014
20140797 | G | GTCR Fund X/A AIV LP; Vocus, Inc; GTCR Fund X/A AIV LP.
05/16/2014
20140850 | G | Newco; KKR 2006 Fund (Invictus) L.P.; Newco.
20140896 | G | Lion Capital Fund III, L.P.; TSG4 L.P.; Lion Capital Fund III, L.P.
05/19/2014
20140841 | G | Jacobs Engineering Group; Verizon Communications Inc.; Jacobs Engineering Group.
20140891 | G | Fidelity National Information Services, Inc.; Reliance Financial Corporation; Fidelity National Information Services, Inc.
20140898 | G | Graham Holdings Company; Fulham Investors II, L.P.; Graham Holdings Company.
20140902 | G | Capital Credit Union; Pioneer Credit Union; Capital Credit Union.
20140908 | G | Riverstone Global Energy et Power Fund V (Cayman), L.P.; General Electric Company Riverstone Global Energy & Power Fund V (Cayman), L.P.
05/20/2014
20140886 | G | EMC Corporation; DSSD, Inc.; EMC Corporation.
20140905 | G | Memorial Production Partners LP; Merit Energy Company, LLC; Memorial Production Partners LP.
20140906 | G | Trident V, L.P.; Genstar Capital Partners V, LP.; Trident V. L.P.
20140911 | G | Quintiles Transnational Holdings Inc.; Encore Health Resources LLC; Quintiles Transnational Holdings Inc.
20140913 | G | Silver Point Capital Fund, L.P.; Arclin Cayman Holdings Ltd.; Silver Point Capital Fund, L.P.
05/21/2014
20140915 | G | HC2 Holdings, Inc,; Scott A. Schuff; HC2 Holdings, Inc.
05/22/2014
20140880 | G | Gibson Brands, Inc.; Koninlclijke Philips NV.; Gibson Brands, Inc.
20140909 | G | Teachers Insurance & Annuity Association of America; Windy City Investments Holdings, L.L.C.; Teachers Insurance & Annuity Association of America.
05/27/2014
20140711 | G | MKS Instruments, Inc.; Brooks Automation, Inc.; MKS Instruments, Inc.
20140897 | G | SSH Holdings, Inc.; Brookstone Holdings Corp.; SSH Holdings, Inc.
20140918 | G | Chip Holding Company, LP; Snyder's-Lance, Inc.; Chip Holding Company, LP.
20140921 | G | Energy Transfer Equity, L.P.; Susser Holdings Corporation; Energy Transfer Equity, L.P.
20140922 | G | Jeffery D. Hildebrand; BP p.l.c.; Jeffery D. Hildebrand.
20140923 | G | B/E Aerospace, Inc.; Jerald M. Jendusa; B/E Aerospace, Inc.
20140928 | G | Summit Partners Growth Equity Fund VIII-A, L.P.; The Procter & Gamble Company; Summit Partners Growth Equity Fund VIII-A, L.P.
20140929 | G | Encana Corporation; Freeport-McMoRan Copper & Gold Inc.; Encana Corporation.
20140932 | G | Clearlake Capital Partners III, L.P.; Genstar Capital Partners IV, L.P.; Clearlake Capital Partners III, L.P.
20140935 | G | The Energy & Minerals Group Fund III, LP; Enduring Resources II, LLC; The Energy & Minerals Group Fund III, LP.
20140940 | G | Huntington Ingalls Industries, Inc.; UniversalPegasus International; Huntington Ingalls Industries, Inc.
20140948 | G | Sentinel Capital Partners V, L.P.; Irving Place Capital Partners III, L.P.; Sentinel Capital Partners V, L.P.
05/28/2014
20140920 | G | Hilltop Holdings Inc.; SWS Group, Inc.; Hilltop Holdings Inc.
20140936 | G | News Corporation; Torstar Corporation; News Corporation.
20140946 | G | Golden Gate Capital Opportunity Fund, L.P.; Phillips-Medisize Corporation Golden; Gate Capital Opportunity Fund, L.P.
20140947 | G | West Corporation; Health Advocate, Inc.; West Corporation.
20140958 | G | Solera Holdings, Inc.; KPGW Holding Company, LLC; Solera Holdings, Inc.
05/29/2014
20140863 | G | Xerox Corporation; ISG Holdings, Inc; Xerox Corporation.
20140888 | G | Renewable Energy Group, Inc.; Tyson 2009 Family Trust c/o Chuck Erwin, Trustee; Renewable Energy Group, Inc.
20140889 | G | Renewable Energy Group, Inc.: Syntroleum Corporation; Renewable Energy Group, Inc.
20140893 | G | United Technologies Corporation; Blades Technology International, Inc.; United Technologies Corporation.
20140900 | G | Forest Laboratories, Inc.; Furiex Pharmaceuticals, Inc.; Forest Laboratories, Inc.
20140957 | G | BDCM Opportunity Fund II, L.P.; Arclin Cayman Holdings Ltd.; BDCM Opportunity Fund II, L.P.
05/30/2014
20140778 | G | Thales SA; JetBlue Airways Corporation; Thales SA.

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2014-13634 Filed 6-11-14; 8:45 am]

BILLING CODE 6750-01-M